OVERSEAS PRIVATE INVESTMENT CORPORATION

Sunshine Notice; March 10, 2011 Board of Directors Meeting

TIME AND DATE: Thursday, March 10, 2011, 10 a.m. (Open Portion) 10:15 a.m. (Closed Portion).

PLACE: Offices of the Corporation, Twelfth Floor Board Room, 1100 New York Avenue, NW., Washington, DC.

STATUS: Meeting Open to the Public from 10 a.m. to 10:15 a.m. Closed portion will commence at 10:15 a.m. (approx.)

MATTERS TO BE CONSIDERED:

1. President's Report.

2. Approval of September 23, 2010 Minutes (Open Session).

3. Tribute—Sanford L. Gottesman.

4. Confirmations:

Kevin G. Nealer as Member of Board Audit Committee.

Judith D. Pryor as Vice President, Office of External Affairs.

FURTHER MATTERS TO BE CONSIDERED: (Closed to the Public 10:15 a.m.)

1. Reports.

2. Finance Project—Liberia.

3. Finance Project—Georgia.

4. Insurance Project—Ghana.

5. Approval of September 23, 2010 Minutes (Closed Session).

6. Pending Major Projects.

Written summaries of the projects to be presented will be posted on OPIC's Web site on or about February 3, 2011.

CONTACT PERSON FOR INFORMATION: Information on the meeting may be obtained from Connie M. Downs at (202) 336-8438.

Dated: January 28, 2011.
Connie M. Downs,
Corporate Secretary, Overseas Private Investment Corporation.

[FR Doc. 2011-2310 Filed 1-28-11; 4:15 pm]

BILLING CODE 3210-01-P